DEPARTMENT OF DEFENSE

Department of the Air Force

Notice of 2020 Public Interface Control Working Group for the NAVSTAR GPS Public Documents

AGENCY: Global Positioning System (GPS), Department of the Air Force, DoD.

ACTION: Meeting notice.

SUMMARY: This notice informs the public that the Space and Missile Systems Center, Portfolio Architect Corp will host the 2020 Public Interface Control Working Group and Open Public Forum on September 30, 2020 for the following NAVSTAR GPS public documents: IS-GPS-200 (Navigation User Interfaces), IS-GPS-705 (User Segment L5 Interfaces), IS-GPS-800 (User Segment L1C Interface), and ICD-GPS-240 (NAVSTAR GPS Control Segment to User Support Community Interfaces). Additional logistical details can be found below.

DATES: Open to the public Wednesday, September 30, 2020 from 8:30 a.m. to 4:00 p.m. (Pacific Standard Time).

ADDRESSES: SAIC, 200 N Pacific Coast Highway, El Segundo, CA 90245, Coronado Conference Room (17th Floor, Check-in 18th Floor at SAIC Front Desk).

Primary Dial In: 312-874-6300, Conference Number: 647396419.

Primary Screen Share URL: https://conference.apps.mil/webconf/gpspublicmeeting2020.

Backup Dial In: 646-828-7666, Meeting ID: 16117342565, Password: 12345.

Backup Screen Share URL: https://saicwebconferencing.zoomgov.com/j/16117342565?pwd=Njg5TVBTbXpKMVVndzNoL0pPMkhTZz09.

FOR FURTHER INFORMATION CONTACT: Please email SMCGPER@us.af.mil and/or contact Lieutenant Julia Corton at 310-653-9518 or Mr. Daniel Godwin at 310-653-3640.

SUPPLEMENTARY INFORMATION: The purpose of this meeting is to update the public on GPS public document revisions and collect issues/comments for analysis and possible integration into future GPS public document revisions. The 2020 Public Interface Control Working Group and Open Forum are open to the general public. For those who would like to attend and participate, we request that you register no later than 18 September 2020. Please send the registration information to SMCGPER@us.af.mil, providing your name, organization, telephone number, email address, and country of citizenship.

Attendees are highly encouraged to participate virtually. Meeting facility person capacity may be reduced based on government restrictions; in-person attendees should plan accordingly. Attendees are also expected to comply with COVID-19 health precautions (such as maintaining social distance and wearing a facemask). Backup dial-in & screen share website will only be used in case of primary system technical difficulties.

Comments will be collected, catalogued, and discussed as potential inclusions to the version following the current release. If accepted, these changes will be processed through the formal change management process for IS-GPS-200, IS-GPS-705, IS-GPS-800, and ICD-GPS-240. All comments must be submitted in a Comments Resolution Matrix. This form along with proposed document revisions of the documents and the official meeting notice are posted at: https://www.gps.gov/technical/icwg/meetings/2020.

Please submit comments to the Space & Missile Systems Center GPS Requirements Section (SMC/ZAC-PNT) workflow at SMCGPER@us.af.mil by August 30, 2020. Special topics may also be considered for the Public Open Forum. If you wish to present a special topic, please submit any materials to SMC/ZAC-PNT no later than August 19, 2020.

Adriane Paris,
Acting Air Force Federal Register Liaison Officer.

[FR Doc. 2020-15953 Filed 7-22-20; 8:45 am]

BILLING CODE 5001-10-P